DEPARTMENT OF HOUSING AND URBAN DEVELOPMENT

[Docket No. FR-5683-N-50]

30-Day Notice of Proposed Information Collection: Affirmative Fair Housing Marketing (AFHM) Plan

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: July 25, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on April 10, 2013.

A. Overview of Information Collection

Title of Information Collection: Affirmative Fair Housing Marketing (AFHM) Plan.

OMB Approval Number: 2529-0013.

Type of Request: Extension of a currently approved collection.

Form Number: HUD-935.2A Affirmative Fair Housing Marketing (AFHM) Plan (Multifamily), HUD-935.2B Affirmative Fair Housing Marketing (AFHM) Plan (Single-Family), and HUD-935.2C Affirmative Fair Housing Marketing (AFHM) Plan (Condominiums or Cooperatives).

Description of the need for the information and proposed use: Developers of new projects describe their intent (marketing efforts) to assure that they meet the Fair Housing guidelines in how the project is marketed to the public. HUD uses this information to assess the adequacy of the applicant's proposed actions to carry out the Affirmative Fair Housing Marketing requirements of 24 CFR 200.600 and review compliance with these requirements under 24 CFR part 108, the AFHM Compliance Regulations.

Estimation of the total numbers of hours needed to prepare the information collection including number of respondents, frequency of response, and hours of response: The number of burden hours is 25,540, which includes time for initial submission, review of existing plans, and any necessary revision. On an annual basis, there are approximately 4,360 respondents who submit initial plans or updated plans. On an annual basis, an additional 3,720 respondents simply review their existing plans. The frequency of annual response is once, and the average burden hour per response is 6 hours for the initial plan submitted, and 4 hours for review and the updating of an existing plan.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35

Dated: June 19, 2013.
Colette Pollard,
Department Reports Management Officer, Office of the Chief Information Officer.

[FR Doc. 2013-15159 Filed 6-24-13; 8:45 am]

BILLING CODE 4210-67-P